FEDERAL COMMUNICATIONS COMMISSION

[OMB 3060-0999]

Information Collection Approved by the Office of Management and Budget

AGENCY: Federal Communications Commission.

ACTION: Notice.

SUMMARY: The Federal Communications Commission (FCC) has received Office of Management and Budget (OMB) approval for a revision of a currently approved public information collection pursuant to the Paperwork Reduction Act of 1995. An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Cathy Williams, Office of the Managing Director, at (202) 418-2918, or email: Cathy.Williams@fcc.gov.

SUPPLEMENTARY INFORMATION: The total annual reporting burdens and costs for the respondents are as follows:

OMB Control Number: 3060-0999.

OMB Approval Date: June 5, 2018.

OMB Expiration Date: June 30, 2021.

Title: Hearing Aid Compatibility Status Report and Section 20.19, Hearing Aid-Compatible Mobile Handsets (Hearing Aid Compatibility Act).

Form Number: FCC Form 655.

Respondents: Business or other for-profit entities.

Number of Respondents and Responses: 934 respondents; 934 responses.

Estimated Time per Response: 13 hours per response (average).

Frequency of Response: On occasion and annual reporting requirements and third-party disclosure requirement.

Obligation to Respond: Required to obtain or retain benefits. Statutory authority for this information collection is contained in 47 U.S.C. Sections 151, 154(i), 157, 160, 201, 202, 208, 214, 301, 303, 308, 309(j), 310 and 610 of the Communications Act of 1934, as amended.

Total Annual Burden: 12,140 hours.

Total Annual Cost: No costs.

Nature and Extent of Confidentiality: Information requested in the reports may include confidential information. However, covered entities are allowed to request that such materials submitted to the Commission be withheld from public inspection.

Privacy Act Impact Assessment: No impact(s).

Needs and Uses: The revision of this collection implements the final rules promulgated in the 2015 Fourth Report and Order, FCC 15-155 (Fourth Report and Order), which expanded the scope of the rules due to a shift from Commercial Mobile Radio Services (CMRS) to digital mobile service. We estimate that there will be a small increase in the number of respondents/responses, total annual burden hours, and total annual cost from the previously approved estimates.

This collection is necessary to implement certain disclosure requirements that are part of the Commission's wireless hearing aid compatibility rule. In a Report and Order in WT Docket No. 01-309, FCC 03-168, adopted and released in September 2003, implementing a mandate under the Hearing Aid Compatibility Act of 1988, the Commission required digital wireless phone manufacturers and service providers to make certain digital wireless phones capable of effective use with hearing aids, label certain phones they sold with information about their compatibility with hearing aids, and report to the Commission (at first every six months, then on an annual basis) on the numbers and types of hearing aid-compatible phones they were producing or offering to the public. These reporting requirements were subsequently amended on several occasions, and the previous OMB-approved collection under this OMB control number included these modifications.

On November 19, 2015, the Commission adopted final rules in a Fourth Report and Order, FCC 15-155 (Fourth Report and Order), that, among other changes, expanded the scope of the Commission's hearing aid compatibility provisions to cover handsets used with any digital terrestrial mobile service that enables two-way real-time voice communications among members of the public or a substantial portion of the public, including through the use of pre-installed software applications. Prior to 2018, the hearing aid compatibility provisions were limited only to handsets used with two-way switched voice or data services classified as Commercial Mobile Radio Service, and only to the extent they were provided over networks meeting certain architectural requirements that enable frequency reuse and seamless handoff. As a result of the Fourth Report and Order, beginning January 1, 2018, all device manufacturers and Tier I carriers that offer handsets falling under the expanded scope of covered handsets are required to comply with the Commission's hearing aid compatibility provisions, including annual reporting requirements on FCC Form 655. For other service providers that are not Tier I carriers, the expanded scope of the Commission's hearing aid compatibility provisions applies beginning April 1, 2018.

Following release of the Fourth Report and Order, the Commission was required to amend FCC Form 655 to reflect the newly expanded scope of handsets covered by the hearing aid compatibility provisions, as well as to capture information regarding existing disclosure requirements clarified by the Commission in the Fourth Report and Order. As a consequence of the Fourth Report and Order, FCC Form 655 filing and other requirements will apply to those newly-covered handsets offered by device manufacturers and service providers that have already been reporting annually on their compliance with the Commission's hearing aid compatibility provisions, as well to any device manufacturers and service providers that were previously exempt because they did not offer any covered handsets or services prior to 2018.

As a result, the Commission requested a revision of this collection in order to implement the final rules promulgated in the Fourth Report and Order, which expanded the scope of the rules due to a shift from Commercial Mobile Radio Services (CMRS) to digital mobile service. We estimate that the expanded scope will increase the potential number of respondents subject to this collection and correspondingly increase the responses and burden hours. The minor language changes to the instructions to FCC Form 655 and to the form itself clarifying this expanded scope will help the Commission compile data and monitor compliance with the current version of the hearing aid compatibility rules while making more complete and accessible information available to consumers.

Federal Communications Commission.
Marlene Dortch,
Secretary, Office of the Secretary.

[FR Doc. 2018-12627 Filed 6-11-18; 8:45 am]

BILLING CODE 6712-01-P